DEPARTMENT OF JUSTICE

Notice of Lodging of Consent Decree Pursuant to the Resource Conservation and Recovery Act

In accordance with Departmental policy, 28 CFR 50.7, notice is hereby given that a Consent Decree in United States v. Hi-Noon Petroleum, Inc., Civil Action No. CV 02-27-GF-CSO, was lodged on April 3, 2002, with the United States District Court for the District of Montana. The Consent Decree resolves the claims of the United States under Section 9006 of the Resource Conservation and Recovery Act (RCRA), 42 U.S.C. 6991e, for violations of the federal RCRA Underground Storage Tank (UST) regulations, 40 CFR Part 280 at the P&M Convenience Store in Browning, Montana. In the attached Consent Decree, Hi-Noon Petroleum will pay a penalty of $23,125.00 to the United States. Hi-Noon will spend an additional $69,375.00 on a Supplemental Environmental Project which conforms to EPA's Supplemental Environmental Projects Policy.

The Department of Justice will receive, for a period of thirty (30) days from the date of this publication, comments relating to the proposed Consent Decree. Comments should be addressed to the Assistant Attorney General for the Environment and Natural Resources Division, Department of Justice, P.O. Box 7611, U.S. Department of Justice, Washington, DC 20044-7611, and should refer to United States v. Hi-Noon Petroleum, Inc., DOJ REF. #90-7-1-06937.

The Consent Decree may be examined at the Office of the United States Attorney, 2929 3rd Ave. North, Suite 400, Billings, MT 59101, and at U.S. EPA Region VII (8ENF-L), 999 18th Street, Suite #300, Denver, CO 80202-2466. A copy of the Consent Decree may also be obtained by mail from the Consent Decree Library, Department of Justice, P.O. Box 7611, Washington, DC 20044-7611. In requesting a copy from the Consent Decree Library, please refer to the referenced case and enclose a check in the amount of $5.50 (25 cents per page reproduction cost), payable to the U.S. Treasury.

Robert Brook,
Assistant Section Chief, Environmental Enforcement Section, Environment and Natural Resources Division.

[FR Doc. 02-10120 Filed 4-24-02; 8:45 am]

BILLING CODE 4410-15-M